DEPARTMENT OF HEALTH AND HUMAN SERVICES

Centers for Disease Control and Prevention

[30Day-24-0493]

Agency Forms Undergoing Paperwork Reduction Act Review

In accordance with the Paperwork Reduction Act of 1995, the Centers for Disease Control and Prevention (CDC) has submitted the information collection request titled “2025 and 2027 National Youth Risk Behavior Survey (YRBS)” to the Office of Management and Budget (OMB) for review and approval. CDC previously published a “Proposed Data Collection Submitted for Public Comment and Recommendations” notice on February 9, 2024 to obtain comments from the public and affected agencies. CDC received one non-substantive comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

2025 and 2027 National Youth Risk Behavior Survey (OMB Control No. 0920-0493)—Reinstatement with Change—National Center for Chronic Disease Prevention and Health Promotion (NCCDPHP), Centers for Disease Control and Prevention (CDC).

Background and Brief Description

The purpose of this request is to obtain OMB approval for a Reinstatement with Change, of the data collection titled National Youth Risk Behavior Survey (YRBS), a school-based survey that has been conducted biennially since 1991. OMB approval for the 2021 YRBS and 2023 YRBS expired November 30, 2023 (OMB Control No. 0920-0493). CDC seeks a three-year approval to conduct the YRBS in Spring 2025 and Spring 2027. Changes incorporated into this Reinstatement request include the addition of a validation study of fruit and vegetable intake, the results of which will be used to inform changes to the 2027 YRBS questionnaire. Additional changes include an updated title for the information collection to accurately reflect the years in which the survey will be conducted and minor changes to the data collection instrument.

The YRBS assesses priority health risk behaviors related to the major preventable causes of mortality, morbidity, and social problems among both youth and young adults in the United States. Data on health risk behaviors of adolescents are the focus of approximately 65 national health objectives in Healthy People 2030, an initiative of the U.S. Department of Health and Human Services (HHS). The YRBS provides data to measure 14 Healthy People 2030 objectives. In addition, the YRBS can identify racial and ethnic disparities in health risk behaviors. No other national source of data measures as many of the Healthy People 2030 objectives addressing adolescent health risk behaviors as the YRBS. The data also will have significant implications for policy and program development for school health programs nationwide.

In Spring 2025 and Spring 2027, the YRBS will be conducted among nationally representative samples of students attending public and private schools in grades 9-12, and in 2025, the validation study will be conducted among a convenience sample of schools and students. Information supporting the YRBS also will be collected from state-, district-, and school-level administrators and teachers. The table below reports the number of respondents annualized over the three-year project period. The total estimated annualized burden hours are 4,389. There are no costs to respondents other than their time.

Estimated Annualized Burden Hours
Type of respondent | Form name | Number of respondents | Number of responses per respondent | Average burden per response (in hr)
State Administrators | State-level Recruitment Script for the Youth Risk Behavior Survey | 17 | 1 | 30/60
District Administrators | District-level Recruitment Script for the Youth Risk Behavior Survey | 80 | 1 | 30/60
School Administrators | School-level Recruitment Script for the Youth Risk Behavior Survey | 133 | 1 | 30/60
School Administrators | School-level Recruitment Script for the Validation Study | 6 | 1 | 30/60
Teachers | Permission Form Tracking Log for the Youth Risk Behavior Survey | 440 | 1 | 15/60
Teachers | Permission Form Tracking Log for the Validation Study | 14 | 1 | 15/60
Students | Youth Risk Behavior Survey | 8045 | 1 | 30/60
Students | Dietary Behavior Questionnaire | 200 | 1 | 10/60
Students | 24-hour Dietary Recall Interview | 200 | 1 | 30/60

Jeffrey M. Zirger,
Lead, Information Collection Review Office, Office of Public Health Ethics and Regulations, Office of Science, Centers for Disease Control and Prevention.

[FR Doc. 2024-15536 Filed 7-15-24; 8:45 am]

BILLING CODE 4163-18-P